DEPARTMENT OF TRANSPORTATION

Federal Aviation Administration

Notice of Intent To Rule on Application (#03-03-C-00-SGU) To Impose and To Use a Passenger Facility Charge (PFC) at the St. George Municipal Airport, Submitted by the City of St. George, UT

AGENCY: Federal Aviation Administration (FAA), DOT.

ACTION: Notice of Intent To Rule on Application.

SUMMARY: The FAA proposes to rule and invites public comment on the application to use a PFC at the St. George Municipal Airport under the provisions of 49 U.S.C. 40117 and part 158 of the Federal Aviation Regulations (14 CFR part 158).

DATES: Comments must be received on or before February 21, 2003.

ADDRESSES: Comments on this application may be mailed or delivered in triplicate to the FAA at the following address: Alan Wiechmann, Manager; Denver Airports District Office, DEN-ADO; Federal Aviation Administration; 26805 E. 68th Avenue, Suite 224; Denver, CO 80249-6361.

In addition, one copy of any comments submitted to the FAA must be mailed or delivered to Mr. David R. Ulane, Airport Manager, at the following address: St. George Municipal Airport, 620 S. Airport Road, St. George, Utah 84770.

Air Carriers and foreign air carriers may submit copies of written comments previously provided to the St. George Municipal Airport, under section 158.23 of Part 158.

FOR FURTHER INFORMATION CONTACT: Mr. Christopher Schaffer, (303) 342-1258; Denver Airports District Office, DEN-ADO; Federal Aviation Administration; 26805 E. 68th Avenue, Suite 224; Denver, CO 80249-6361. The application may be reviewed in person at this same location.

SUPPLEMENTARY INFORMATION: The FAA proposes to rule and invites public comment on the application (#03-03-C-00-SGU) to use a PFC at the St. George Municipal Airport, under the provisions of 49 U.S.C. 40117 and part 158 of the Federal Aviation Regulations (14 CFR part 158).

On January 10, 2003, the FAA determined that the application to impose a PFC submitted by the City of St. George, Utah, was substantially complete within the requirements of § 158.25 of part 158. The FAA will approve or disapprove the application, in whole or in part, no later than April 10, 2003.

The following is a brief overview of the application.

Level of the proposed PFC: $4.50.

Proposed charge effective date: July 1, 2003.

Proposed charge expiration date: June 30, 2008.

Total requested for use approval: $538,575.

Brief description of proposed projects: Acquire aircraft rescue and fire fighting vehicle, acquire self-contained regenerative air sweeper, aircraft rescue and fire fighting building improvements, replacement airport planning, replacement airport environmental impact statement, replacement airport phase II environmental impact statement, construct replacement airport.

Class or classes of air carriers that the public agency has requested not be required to collect PFC's: Non-scheduled, on demand air carriers filing FAA Form 1800-31.

Any person may inspect the application in person at the FAA office listed above under FOR FURTHER INFORMATION CONTACT and at the FAA Regional Airports Office located at: Federal Aviation Administration, Northwest Mountain Region, Airports Division, ANM-600, 1601 Lind Avenue SW., Suite 315, Renton, WA 98055-4056.

In addition, any person may, upon request, inspect the application, notice and other documents germane to the application in person at the St. George Municipal Airport.

Issued in Renton, Washington, on January 10, 2003.
David A. Field,
Manager, Planning, Programming and Capacity Branch, Northwest Mountain Region.

[FR Doc. 03-1317 Filed 1-21-03; 8:45 am]

BILLING CODE 4810-13-M